DEPARTMENT OF LABOR

Employment and Training Administration

Investigations Regarding Certifications of Eligibility To Apply for Worker Adjustment Assistance and Alternative Trade Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than April 21, 2008.

Interested persons are invited to submit written comments regarding the subject matter of the investigations to the Director, Division of Trade Adjustment Assistance, at the address shown below, not later than April 21, 2008.

The petitions filed in this case are available for inspection at the Office of the Director, Division of Trade Adjustment Assistance, Employment and Training Administration, U.S. Department of Labor, Room C-5311, 200 Constitution Avenue, NW., Washington, DC 20210.

Signed at Washington, DC, this 3rd day of April 2008.
Erin FitzGerald,
Acting Director, Division of Trade Adjustment Assistance.

Appendix
[TAA petitions instituted between 3/24/08 and 3/28/08 ]
TA-W | Subject firm (petitioners) | Location | Date of institution | Date of petition
63053 | Mohawk ESV, Inc. (Wkrs) | Hiawassee, GA | 03/24/08 | 03/12/08
63054 | Skynet Satellite Corporation (Rep) | Hawley, PA | 03/24/08 | 03/21/08
63055 | GE Zenith Controls (Comp) | Bonham, TX | 03/24/08 | 03/12/08
63056 | Eaton Corporation (Comp) | Oxford, MI | 03/24/08 | 03/18/08
63057 | Cytec Industries (USW) | Willow Island, WV | 03/24/08 | 03/20/08
63058 | Mizuno Automotive USA Inc. (Comp) | Morristown, TN | 03/25/08 | 03/24/08
63059 | Springs Global—Griffin Finishing (Comp) | Griffin, GA | 03/25/08 | 03/24/08
63060 | Keith Brown Building Materials (Wkrs) | Madras, OR | 03/25/08 | 03/24/08
63061 | Springs Direct Division (Wkrs) | Lancaster, SC | 03/25/08 | 03/05/08
63062 | Donna's Distribution (Wkrs) | Chicago, IL | 03/25/08 | 03/14/08
63063 | Hickory Hill Furniture Corporation (Wkrs) | Valdese, NC | 03/25/08 | 03/17/08
63064 | ITT MFC FC—Alcon/ECI (Comp) | San Dimas, CA | 03/25/08 | 03/24/08
63065 | Power One (Wkrs) | Andover, MA | 03/25/08 | 03/13/08
63066 | Legget and Platt—Branch 0612 (Rep) | Georgetown, KY | 03/25/08 | 03/24/08
63067 | Heatcraft Refrigeration (Union) | Danville, IL | 03/26/08 | 03/25/08
63068 | R.T. Vanderbilt—Gouverneur Tale Division (USW) | Gouverneur, NY | 03/26/08 | 03/24/08
63069 | Milprint, Division of Bemis, Inc. (Wkrs) | Lancaster, WI | 03/26/08 | 03/25/08
63070 | Alamac American Knits (Comp) | Lumberton, NC | 03/26/08 | 03/18/08
63071 | Rohm and Haas Electronic Material (State) | Marlborough, MA | 03/26/08 | 03/26/08
63072 | Jockey International, Inc. (Comp) | Racine, WI | 03/26/08 | 03/25/08
63073 | Oberg Industries (Comp) | Chandler, AZ | 03/26/08 | 03/25/08
63074 | Pfizer, Inc. (State) | Groton, CT | 03/26/08 | 03/25/08
63075 | Russound FMP (Wkrs) | New Market, NH | 03/27/08 | 03/26/08
63076 | Aon Service Corporation (State) | Saint Louis, MO | 03/27/08 | 03/11/08
63077 | Indalex Aluminum Solutions (USW) | Girard, OH | 03/27/08 | 03/26/08
63078 | Mavrick Metal Stampings, Inc. (Comp) | Mancelona, MI | 03/27/08 | 03/26/08
63079 | Redman Homes, Inc. (Comp) | Silverton, OR | 03/27/08 | 03/26/08
63080 | Chrysler, LLC (UAW) | Belvidere, IL | 03/27/08 | 03/26/08
63081 | Russell Corporation/Cross Creek Apparel (Comp) | Mount Airy, NC | 03/27/08 | 03/26/08
63082 | Nortel (Wkrs) | Research Triangle Park, NC | 03/27/08 | 12/14/07
63083 | Performance Fibers Winfield (Comp) | Winfield, AL | 03/27/08 | 03/26/08
63084 | Prime Health Care (State) | Anaheim, CA | 03/27/08 | 03/26/08
63085 | Trimtex Company, Inc. (Comp) | Williamsport, PA | 03/27/08 | 03/24/08
63086 | K-Industries (USA), LLC (Comp) | Riviera Beach, FL | 03/28/08 | 03/27/08
63087 | G8 Fashion, Inc. (Wkrs) | New York, NY | 03/28/08 | 03/19/08
63088 | Mount Vernon Mills Brenham Greige Fabrics Weaving Plant (Comp) | Brenham, TX | 03/28/08 | 03/19/08
63089 | Garment Technology, Inc. (Comp) | Gaffney, SC | 03/28/08 | 03/27/08
63090 | Bright Wood Corporation (State) | Bend, OR | 03/28/08 | 03/27/08
63091 | Far North Windows and Doors (State) | Champlin, MN | 03/28/08 | 03/27/08

[FR Doc. E8-7742 Filed 4-10-08; 8:45 am]

BILLING CODE 4510-FN-P